DEPARTMENT OF TRANSPORTATION

Federal Aviation Administration

14 CFR Part 39

[Docket No. FAA-2005-20969; Directorate Identifier 2005-NM-017-AD]

RIN 2120-AA64

Airworthiness Directives; Raytheon Model DH.125, HS.125, and BH.125 Series Airplanes; Model BAe.125 Series 800A (C-29A and U-125), 800B, 1000A, and 1000B Airplanes; and Model Hawker 800 (including variant U-125A), and 1000 Airplanes

Correction

In proposed rule document 05-7673 beginning on page 20080 in the issue of Monday, April 18, 2005, make the following corrections:

1. On page 20082, in the table, the heading in the first column “Action hour” should read “Action”.

2. On the same page, in the same table, the heading in the third column “Average labor rate per” should read “Average labor rate per hour”.

3. On the same page, in the same table, the heading in the fifth column “Cost per hour airplane” should read “Cost per airplane”.

[FR Doc. C5-7673 Filed 12-1-05; 8:45 am]

BILLING CODE 1505-01-D